DEPARTMENT OF EDUCATION

Submission for OMB Review; Comment Request

AGENCY: Department of Education.

ACTION: Correction notice.

SUMMARY: On August 7, 2002, the Department of Education published incorrect information regarding the public comment notice for the information collection, “Consolidated State Application”. The information within the notice for the Consolidated State Application has been corrected. The public comment period continues through September 6, 2002.

Type of Review: Extension.

Title: Consolidated State Application.

Frequency: Annually.

Affected Public: State, Local, or Tribal Gov't, SEAs or LEAs.

Reporting and Recordkeeping Hour Burden:

Responses: 52.

Burden Hours: 18,160.

Abstract: This information collection package describes the criteria and procedures that govern the consolidated State application under which State educational agencies will apply to obtain funds for implementing Elementary and Secondary Education Act (ESEA) programs. The option of submitting a consolidated application for obtaining federal formula program grant funds is provided for in the reauthorized ESEA (No Child Left Behind-NCLB) Section 9302. This information collection package will guide the States in identifying the information and data required in the application.

In addition to this comment period for the Consolidated State Application, the Department has published the Notice of Proposed Rulemaking (NPRM) for the Title 1—Improving the Academic Achievement of the Disadvantaged for public comment. The comment period for the information collection requirements pertaining to this collection has been offered through the NPRM.

The Leader, Regulatory Information Management Group, Office of the Chief Information Officer, hereby issues a correction notice as required by the Paperwork Reduction Act of 1995.

FOR FURTHER INFORMATION CONTACT: Kathy Axt at her e-mail address Kathy.Axt@ed.gov.

Dated: August 21, 2002.
John D. Tressler,
Leader, Regulatory Information Management Group, Office of the Chief Information Officer.

[FR Doc. 02-21689 Filed 8-23-02; 8:45 am]

BILLING CODE 4000-01-P